DEPARTMENT OF TRANSPORTATION

Federal Transit Administration

Public Transportation on Indian Reservations Program; Tribal Transit Program

AGENCY: Federal Transit Administration (FTA), DOT.

ACTION: Notice of Award.

SUMMARY: The Federal Transit Administration (FTA) announces the selection of projects to be funded under Fiscal Year (FY) 2006 appropriations for the Tribal Transit Program (TTP), a program authorized by the Safe, Accountable, Flexible, and Efficient Transportation Equity Act: A Legacy for Users (SAFETEA-LU).

FOR FURTHER INFORMATION CONTACT: Contact the appropriate FTA regional Tribal Liaison (Appendix A) for application-specific information and issues. For general program information, contact Lorna R. Wilson, Office of Transit Programs, at (202) 366-2053, e-mail: Lorna.Wilson@dot.gov. A TDD is available at 1-800-877-8339 (TDD/FIRS).

SUPPLEMENTARY INFORMATION: The Tribal Transit Program (TTP) established by Section 3013 SAFETEA-LU, Public Law 109-49 (August 15, 2005), under 49 U.S.C. 5311(c) makes funds available to federally recognized Indian tribes or Alaska Native villages, groups, or communities as identified by the Bureau of Indian Affairs (BIA) in the U.S. Department of the Interior for public transportation capital projects, operating costs and planning activities that are eligible costs under the Nonurbanized Area Formula Program (Section 5311).

A total of $7.92 million was made available for the program in FY 2006. A total of 95 applicants requested $22.1 million for funding for new transit service, enhancement or expansion of existing transit services, or planning studies and operational planning. The applications also included an additional $41,767,031 in requests for future year funds. FTA made project selections through a competitive process based on each applicant's responsiveness to the programs evaluation criteria outlined in FTA's August 15, 2006, Federal Register Notice: Notice of Funding Availability and Solicitation for FY 2006 TTP (71 FR 46959). FTA evaluated applications for planning grants on a pass/fail basis, whereas FTA evaluated applications for start up and existing transit services on a numeric score system. Because of the high demand for the funds available, many applicants selected for funding will receive less funding than they requested to enable FTA to support more of the most meritorious applications. However, all of the most highly qualified applicants received some funding.

This notice only addresses FY 2006 funding for projects. Tribes that sought funding for a multi-year project in response to the FY 2006 solicitation must submit a new application in response to the FY 2007 Notice of Funding Availability (NOFA) in order to be considered for FY 2007 funding.

The selected projects, providing $7.92 million to 63 tribes, breaks down as follows: $834,965 for transit planning studies and/or operational planning, $3,168,861 million for startup projects for new transit service, and $3,916,354 for enhancements or expansion of exiting transit services. Each of the 63 awardees, as well as the 32 applicants who were not selected for funding, will receive a letter explaining the funding decision. The successful applicants for FY 2006 are listed below.

Tribes that were not selected for the FY 2006 TTP will be invited to participate in FTA sponsored Tribal Technical Assistance Program workshops and events. One goal of the program is to better equip a tribe to compete for future year funding. This technical assistance will be open to all tribes.

Following publication of this notice, FTA regional offices will conduct a new grantee orientation. FTA's regional tribal liaison will contact each applicant selected for funding to discuss scheduling and event logistics.

FY 2006 Tribal Transit Grant Recipients
Tribe | State | Planning (in dollars) | Start-up (in dollars) | Ehancement (in dollars) | Project No.
Burns Paiute Tribe | Oregon | 25,000 |  |  | D2006-TRTR-0001
Caddo Nation | Oklahoma | 25,000 |  |  | D2006-TRTR-0002
Cherokee Nation | Oklahoma | 25,000 |  |  | D2006-TRTR-0003
Chickaloon Native Village | Arkansas | 25,000 |  |  | D2006-TRTR-0004
Choctaw Nation of Oklahoma | Oklahoma |  |  | $158,000 | D2006-TRTR-0005
Cocopah Indian Tribe | Arizona |  |  | 208,000 | D2006-TRTR-0006
Confederated Salish and Kootenai Tribes | Montana |  |  | 373,274 | D2006-TRTR-0007
Confederated Tribes and Bands of the Yakama Nation's | Washington |  | 490,890 |  | D2006-TRTR-0008
Confederated Tribes of the Colville Indian | Washington |  |  | 156,000 | D2006-TRTR-0009
Confederated Tribes of the Grand Ronde Community of Oregon | Oregon |  | 247,340 |  | D2006-TRTR-0010
Coquille Tribe of Oregon | Oregon | 25,000 |  |  | D2006-TRTR-0011
Eastern Band of Cherokee Indians | North Carolina |  |  | 100,000 | D2006-TRTR-0012
Fallon Paiute-Shoshone Tribe | Nevada | 25,000 |  |  | D2006-TRTR-0013
Grand Portage Band of Chippewa Indians | Minnesota |  |  | 60,000 | D2006-TRTR-0014
Gulkana Village Council | Alaska |  | 232,600 |  | D2006-TRTR-0015
Hannahville Indian Community | Michigan | 25,000 |  |  | D2006-TRTR-0016
Houlton Band of Maliseet Indians | Maine |  |  | 99,171 | D2006-TRTR-0017
Hualapai Indian Tribe | Arizona | 25,000 |  |  | D2006-TRTR-0018
Iowa Tribe of Oklahoma | Oklahoma | 25,000 |  |  | D2006-TRTR-0019
Kalispel Tribe of Indians | Washington |  | 167,547 |  | D2006-TRTR-0020
Kaw Nation | Oklahoma | 25,000 |  |  | D2006-TRTR-0021
Lac du Flambeau Band of Lake Superior Chippewa | Wisconsin | 25,000 |  |  | D2006-TRTR-0022
Leech Lake Band of Ojibwe | Minnesota | 25,000 |  |  | D2006-TRTR-0023
Lower Sioux Indian Community | Minnesota | 25,000 |  |  | D2006-TRTR-0024
Lummi Tribe of the Lummi Reservation | Washington |  | 306,500 |  | D2006-TRTR-0025
Menominee Indian Tribe of Wisconsin | Wisconsin |  |  | 270,002 | D2006-TRTR-0026
Narragansett Indian Tribe | Rhode Island | 25,000 |  |  | D2006-TRTR-0027
Northern Cheyenne | Montana |  | 400,000 |  | D2006-TRTR-0028
Oglala Sioux Tribe | South Dakota |  | 327,869 |  | D2006-TRTR-0029
Orutsaramiut Native Council | Alaska |  | 105,193 |  | D2006-TRTR-0030
Poarch Band of Creek Indians | Alabama |  |  | 75,139 | D2006-TRTR-0031
Pokagon Band of Potawatomi Indians | Michigan | 25,000 |  |  | D2006-TRTR-0032
Ponca Tribe Nebraska | Nebraska | 25,000 |  |  | D2006-TRTR-0033
Ponca Tribe of Oklahoma | Oklahoma |  | 207,836 |  | D2006-TRTR-0034
Prairie Band Potawatomi Nation | Kansas |  |  | 360,000 | D2006-TRTR-0035
Pueblo of Laguna-Shaa'srka Transit | New Mexico | 25,000 |  |  | D2006-TRTR-0036
Pueblo of Santa Ana | New Mexico | 25,000 |  |  | D2006-TRTR-0037
Quapaw Tribe of Okalahoma | Oklahoma | 25,000 |  |  | D2006-TRTR-0038
Quinault Tribe of the Quinault Reservation | Washington | 25,000 |  |  | D2006-TRTR-0039
Red Lake Band of Chippewa Indians | Minnesota |  |  | 199,817 | D2006-TRTR-0040
Saint Regis Mohawk Tribe | New York | 25,000 |  |  | D2006-TRTR-0041
Santee Sioux Nation | Nebraska | 13,800 |  |  | D2006-TRTR-0042
Seminole Nation | Oklahoma |  | 145,000 |  | D2006-TRTR-0043
Seneca Nation of Indians | New York | 25,000 |  |  | D2006-TRTR-0044
Skokomish Indian Tribe of the Skokomish | Washington | 25,000 |  |  | D2006-TRTR-0045
Snoquamile Tribe | Washington |  | 274,169 |  | D2006-TRTR-0046
Spirit Lake Tribe | North Dakota | 25,000 |  |  | D2006-TRTR-0047
Squaxin Island Tribe | Washington | 25,000 |  |  | D2006-TRTR-0048
Suquamish Tribe | Washington | 25,000 |  |  | D2006-TRTR-0049
Susanville Indian Rancheria | California |  | 99,253 |  | D2006-TRTR-0050
The Chickasaw Nation | Oklahoma |  |  | 349,164 | D2006-TRTR-0051
The Citizen Potawatomi Nation | Oklahoma |  |  | 285,000 | D2006-TRTR-0052
The Navajo Nation | Arizona |  |  | 500,000 | D2006-TRTR-0053
The Sac and Fox Nation | Kansas | 25,000 |  |  | D2006-TRTR-0054
The Shoalwater Bay Indian Tribe | Washington | 24,797 |  |  | D2006-TRTR-0055
The Sitka Tribe | Alaska |  |  | 265,207 | D2006-TRTR-0056
Upper Sioux Community | Minnesota | 21,368 |  |  | D2006-TRTR-0057
Wampanoag Tribe of Gay Head (Aquinnah) | Massachusetts | 25,000 |  |  | D2006-TRTR-0058
Washoe Tribe of Nevada and California | Nevada | 25,000 |  |  | D2006-TRTR-0059
White Mountain Apache Tribe | Arizona | 25,000 |  |  | D2006-TRTR-0060
Winnebago Tribe of Nebraska | Nebraska |  |  | 457,580 | D2006-TRTR-0061
Yavapai-Apache Nation | Arizona | 25,000 |  |  | D2006-TRTR-0062
Yurok Tribe | California |  | 164,484 |  | D2006-TRTR-0063
Total |  | 834,965 | 3,168,681 | 3,916,354
Total: $7,920,000

Issued in Washington, DC, this 29th day of March, 2007.
James S. Simpson,
Administrator.

Appendix A—FTA Regional Offices and Tribal Transit Liaisons

Region I—Massachusetts, Rhode Island, Connecticut, New Hampshire, Vermont and Maine

Richard H. Doyle, FTA Regional Administrator, Volpe National Transportation Systems Center, Kendall Square, 55 Broadway, Suite 920, Cambridge, MA 02142-1093, Phone: (617) 494-2055, Fax: (617) 494-2865

Regional Tribal Liaison: Judi Molloy

Region II—New York, New Jersey

Brigid Hynes-Cherin, FTA Regional Administrator, One Bowling Green, Room 429, New York, NY 10004-1415, Phone: (212) 668-2170, Fax: (212) 668-2136

Regional Tribal Liaison: Rebecca Reyes-Alicea

Region III—Pennsylvania, Maryland, Virginia, West Virginia, Delaware, Washington, DC

Herman Shipman, Acting FTA Regional Administrator, 1760 Market Street, Suite 500, Philadelphia, PA 19103-4124, Phone: (215) 656-7100, Fax: (215) 656-7260

Region IV—Georgia, North Carolina, South Carolina, Florida, Mississippi, Tennessee, Kentucky, Alabama, Puerto Rico, Virgin Islands

Yvette G. Taylor, FTA Regional Administrator, 61 Forsyth Street, SW., Suite 17T50, Atlanta, GA 30303, Phone: (404) 562-3500, Fax: (404) 562-3505

Regional Tribal Liaisons: Jamie Pfister and James Garland

Region V—Illinois, Indiana, Ohio, Wisconsin, Minnesota, Michigan

Marisol R. Simon, FTA Regional Administrator, 200 West Adams Street, Suite 320, Chicago, IL 60606-5232, Phone: (312) 353-2789, Fax: (312) 886-0351

Regional Tribal Liaisons: William Wheeler

Region VI—Texas, New Mexico, Louisiana, Arkansas, Oklahoma

Robert Patrick, FTA Regional Administrator, 819 Taylor Street, Room 8A36, Ft. Worth, TX 76102, Phone: (817) 978-0550, Fax: (817) 978-0575

Regional Tribal Liaison: Lynn Hayes

Region VII—Iowa, Nebraska, Kansas, Missouri

Mokhtee Ahmad, FTA Regional Administrator, 901 Locust Street, Suite 404, Kansas City, MO 64106, Phone: (816) 329-3920, Fax: (816) 329-3921

Regional Tribal Liaisons: Joni Roeseler and Cathy Monroe

Region VIII—Colorado, North Dakota, South Dakota, Montana, Wyoming, Utah

Letitia A. Thompson, Acting FTA Regional Administrator, 12300 West Dakota Avenue, Suite 310, Lakewood, CO 80228-2583, Phone: (720) 963-3300, Fax: (720) 963-3333

Regional Tribal Liaisons: Jennifer Stewart and David Beckhouse

Region IX—California, Arizona, Nevada, Hawaii, American Samoa, Guam

Leslie Rogers, FTA Regional Administrator, 201 Mission Street, Suite 1650, San Francisco, CA 94105-1831, Phone: (415) 744-3133, Fax: (415) 744-2726

Regional Tribal Liaison: Donna Turchie

Region X—Washington, Oregon, Idaho, Alaska

Richard Krochalis, FTA Regional Administrator, Jackson Federal Building, 915 Second Avenue, Suite 3142, Seattle, WA 98174-1002, Phone: (206) 220-7954, Fax: (206) 220-7959

Regional Tribal Liaisons: Bill Ramos and Annette Clothier

[FR Doc. E7-6192 Filed 4-3-07; 8:45 am]

BILLING CODE 4910-57-P